DEPARTMENT OF COMMERCE

National Oceanic and Atmospheric Administration

[Docket No. 000616180-2002-04]

RIN 0648-ZA91

NOAA Climate and Global Change Program, Program Announcement; Global Carbon Cycle Element, FY 2002

Correction

In notice document 02-898 beginning on page 1719 in the issue of Monday, January 14, 2002 make the following corrections:

1.On page 1720, in the first column, in the third full paragraph, in the fourth line, the e-mail address is corrected to read as follows: “dilling@ogp.noaa.gov”.

2. On the same page, in the same column, in the same paragraph, in the seventh line, the web address is corrected to read as follows: “ http://www.ogp.noaa.gov/mpe/gcc/index/html.”.

[FR Doc. C2-898 Filed 1-22-02; 8:45 am]

BILLING CODE 1505-01-D

NUCLEAR REGULATORY COMMISSION

10 CFR Parts 2, 19, 20, 21, 30, 40, 51, 60, 61, 63, 70, 72, 73, and 75

RIN 3150-AG04

Disposal of High-Level Radioactive Wastes in a Proposed Geologic Repository at Yucca Mountain, NV

Correction

In rule document 01-27157 beginning on page 55732 in the issue of Friday, November 2, 2001, make the following correction:

On page 55741, in the first column, in the third paragraph, and in the seventh line, “*ensp;* *ensp; A 1010⁻⁶” should read “* * * A 10⁻⁶”.

[FR Doc. C1-27157 Filed 1-22-02; 8:45 am]

BILLING CODE 1505-01-D

DEPARTMENT OF TRANSPORTATION

Federal Aviation Administration

14 CFR Part 71

[Airspace Docket No. 01-AGL-02]

Proposed Modification of Class E Airspace; Greenville, MI

Correction

In proposed rule document 02-248 beginning on page 706 in the issue of Monday, January 7, 2002, make the following correction:

§71.1 [Corrected]

On page 707, in the second column, in §71.1, in the third paragraph, the heading that reads “AGL MI ES Greenville, MI [REVISED]” should read “AGL MI E5 Greenville, MI [REVISED]”.

[FR Doc. C2-248 Filed 1-22-02; 8:45 am]

BILLING CODE 1505-01-D

DEPARTMENT OF TRANSPORTATION

Federal Aviation Administration

14 CFR Part 71

[Airspace Docket No. 01-AGL-03]

Proposed Modification of Class E Airspace; Lake Geneva, WI

Correction

In proposed rule document 02-1014 beginning on page 2146 in the issue of Wednesday, January 16, 2002, make the following correction:

§71.1 [Corrected]

On page 2149, in the second column, in §71.1, in the third paragraph, under the heading that reads “AGL WI ES Lake Geneva, WI [REVISED]” should read “AGL WI E5 Lake Geneva, WI [REVISED]”.

[FR Doc. C2-1014 Filed 1-22-02; 8:45 am]

BILLING CODE 1505-01-D

DEPARTMENT OF TRANSPORTATION

Federal Aviation Administration

14 CFR Part 71

[Airspace Docket No. 01-AGL-07]

Proposed Modification of Class E Airspace; Brainerd, MN

Correction

In proposed rule document 02-1010 beginning on page 2150 in the issue of Wednesday, January 16, 2002, make the following correction:

On page 2150, in the third column, in the last line under the heading SUMMARY, “Wing County Region Airport” should read, “Wing County Regional Airport”.

[FR Doc. C2-1010 Filed 1-22-02; 8:45 am]

BILLING CODE 1505-01-D

DEPARTMENT OF TRANSPORTATION

Federal Aviation Administration

14 CFR Part 71

[Airspace Docket No. 01-AGL-09]

Proposed Modification of Class E Airspace; Green Bay, WI

Correction

In proposed rule document 02-1009 beginning on page 2151 in the issue of Wednesday, January 16, 2002, make the following corrections:

1. On page 2151, in the third column, in the fifth line under the heading ADDRESSES, “01-AG-09” should read, “01-AGL-09”.

§ 71.1 [Corrected]

2. On page 2152, in the third column, in § 71.1, in the third line under the heading AGL WI E5 Green Bay, WI [REVISED], “long. 88°97′47″W” should read “long. 88°07′47″W”.

[FR Doc. C2-1009 Filed 1-22-02; 8:45 am]

BILLING CODE 1505-01-D

DEPARTMENT OF TRANSPORTATION

Federal Aviation Administration

14 CFR Part 71

[Airspace Docket No. 01-AGL-14]

Proposed Modification of Class D Airspace; Columbus, OH

Correction

In proposed rule document 02-1007 beginning on page 2156 in the issue of Wednesday, January 16, 2002, make the following corrections:

§ 71.1 [Corrected]

1. On page 2157, in column one, under the heading Paragraph 5000 Class D airspace areas extending upward from the surface of the earth:

a. In line one, AFGL OH D Columbus, OH [REVISED] should read, AGL OH D Columbus, OH [REVISED].

b. In line two,“Columbus, Bolton Filed Airport, OH” should read, “Columbus, Bolton Field Airport, OH”.

c. In lines four through six of the paragraph,“extending that portion beyond a 1.9 mile radius of the Bolton Field Airport bearing 290° to 325°” should read, “extending that portion beyond a 1.8 mile radius of the Bolton Field Airport bearing 270° to 325°”.

[FR Doc. C2-1007 Filed 1-22-02; 8:45 am]

BILLING CODE 1505-01-D

DEPARTMENT OF TRANSPORTATION

Federal Aviation Administration

14 CFR Part 71

[Airspace Docket No. 01-ASO-17]

Establishment of Class E5 Airspace, Wauchula, FL

Correction

In rule document 02-164 beginning on page 510 in the issue of Friday, January 4, 2002, make the following correction:

§71.1 [Corrected]

On page 511, in the second column, in §71.1, under the heading ASO FL E5 Wauchula, FL [New], the second line, that reads “(Lat. 27°30’36” N, long. 81°52’50” W)”, should read: “(Lat. 27°30’49” N, long. 81°52’50” W)”

[FR Doc. C2-164 Filed 1-22-02; 8:45 am]

BILLING CODE 1505-01-D

DEPARTMENT OF TREASURY

Office of Thrift Supervision

12 CFR Part 516

Application Processing

Correction

In rule document 01-4996 beginning on page 12993 in the issue of Friday March 2, 2001, make the following correction:

§516.220 [Corrected]

On page 13004, in § 516.220, in the table in the third column, in item (3), “OTS will not process your to respond” should read “OTS will not process your”.

[FR Doc. C1-4996 Filed 1-22-02; 8:45 am]

BILLING CODE 1505-01-D